DEPARTMENT OF COMMERCE

Evaluation of Coastal Zone Management Programs

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Maine and Washington Coastal Management Programs.

These evaluations will be conducted pursuant to section 312 of the Coastal Zone Management Act of 1972 (CZMA), as amended, and regulations at 15 CFR Part 928.

The CZMA requires a continuing review of the performance of states with respect to coastal program implementation. Evaluation of Coastal Zone Management Programs require findings concerning the extent to which a state has met the national objectives, adhered to its coastal program document approved by the Secretary of Commerce, and adhered to the terms of financial assistance awards funded under the CZMA.

The evaluation will include a site visit, consideration of public comments, and consultations with interested Federal, State, and local agencies and members of the public. Public meetings will be held as part of the site visits.

Notice is hereby given of the dates of the site visits for the listed evaluations, and the dates, local times, and locations of the public meetings during the site visits.

The Maine Coastal Zone Management Program evaluation site visit will be from September 11-15, 2000. One public meeting will be held during the week. The public meeting will be held on Wednesday, September 13, 2000, at 7 P.M., in the Council Chambers at Rockland City Hall, 270 Pleasant Street, Rockland, Maine.

The Washington Coastal Zone Management Program evaluation site visit will be from September 11-15, 2000. One public meeting will be held during the week. The public meeting will be held on Thursday, September 14, 2000, at 7 P.M., in the Department of Ecology Auditorium, 300 Desmond Drive, Lacey, Washington.

Copies of the States' most recent performance reports, as well as OCRM's notifications and supplemental request letters to the States, are available upon request from OCRM. Written comments from interested parties regarding these Programs are encouraged and will be accepted until 15 days after the public meeting. Please direct written comments to Margo E. Jackson, Deputy Director, Office of Ocean and Coastal Resource Management, NOS/NOAA, 1305 East-West Highway, 10th Floor, Silver Spring, Maryland 20910. When the evaluation is completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland 20910, (301) 713-3155, Extension 114.

(Federal Domestic Assistance Catalog 11.419, Coastal Zone Management Program Administration)
Dated: July 26, 2000.
Ted I. Lillestolen,
Deputy Assistant Administrator for Ocean Services and Coastal zone Management.

[FR Doc. 00-19248 Filed 7-27-00; 8:45 am]

BILLING CODE 3510-08-M